ENVIRONMENTAL PROTECTION AGENCY

[FRL-7000-9]

Agency Information Collection Activities: Proposed Collection; Comment Request; Application for Reference or Equivalent Method Determination

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): Application for Reference and Equivalent Method Determination, EPA ICR Number: 0559.06, OMB No: 2080-0005, expiration date: 12/31/2001. Before submitting the ICR to OMB for review and approval, EPA is soliciting comments on specific aspects of the proposed information collection as described below.

DATES: Comments must be submitted on or before August 24, 2001.

ADDRESSES: U.S. Environmental Protection Agency, Human Exposure and Atmospheric Sciences Division, Atmospheric Methods and Monitoring Branch, Mail Drop 46, Research Triangle Park, NC 27711. Interested persons may obtain a copy of the ICR without charge by contacting the contact person identified in this notice.

FOR FURTHER INFORMATION CONTACT: Elizabeth T. Hunike, 919-541-3737; facsimile number: 919-541-1153; E-Mail: Hunike.Elizabeth@epa.gov.

SUPPLEMENTARY INFORMATION: Affected entities: Entities potentially affected by this action are primarily manufacturers and vendors of ambient air quality monitoring instruments which are used by state and local air quality monitoring agencies in their federally required air surveillance monitoring networks, and agents acting for such instrument manufacturers or vendors. Other entities potentially affected may include state or local air monitoring agencies, other users of ambient air quality monitoring instruments, or any other applicant for a reference or equivalent method determination.

Title: Application for Reference and Equivalent Method Determination (OMB Control No. 2080-0005; EPA ICR No. 0559.06; expiring December 31, 2001).

Abstract: To determine compliance with the national ambient air quality standards (NAAQS), State air monitoring agencies are required to use, in their air quality monitoring networks, air monitoring methods that have been formally designated by the EPA as either reference or equivalent methods under EPA regulations at 40 CFR part 53. A manufacturer or seller of an air monitoring method (e.g. an air monitoring sampler or analyzer) that seeks to obtain such EPA designation of one of its products must carry out prescribed tests of the method. The test results and other information must then be submitted to the EPA in the form of an application for a reference or equivalent method determination in accordance with 40 CFR part 53. The EPA uses this information, under the provisions of part 53, to determine whether the particular method should be designated as either a reference or equivalent method. After a method is designated, the applicant must also maintain records of the names and mailing addresses of all ultimate purchasers of all analyzers or samplers sold as designated methods under the method designation. If the method designated is a method for fine particulate matter (PM2.5), the applicant must also submit a checklist signed by an ISO-certified auditor to indicate that the samplers or analyzers sold as part of the designated method are manufactured in an ISO 9001-registered facility. Also, an applicant must submit a minor application to seek approval for any proposed modifications to previously designated methods.

A response to this collection of information is voluntary, but it is required to obtain the benefit of EPA designation under 40 CFR part 53. Submission of some information that is claimed by the applicant to be confidential business information may be necessary to make a reference or equivalent method determination. The confidentiality of any submitted information identified as confidential business information by the applicant will be protected in full accordance with 40 CFR 53.15 and all applicable provisions of 40 CFR part 2.

An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) Evaluate the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g. permitting electronic submission of responses.

Burden Statement: The EPA estimates that the total annual respondent burden for all activities covered in this ICR is approximately 4720 hours and a cost of approximately $88,000. These estimates are based on a projected receipt of 5 major applications per year with a weighted average burden of 860 hours per application, and an estimated 14 minor applications per year with a weighted average burden of 30 hours each. However, it should be noted that actual applications range widely in content and extent. Accordingly, the individual respondent burden for a particular application response may differ substantially from these weighted average burden estimates. The weighted average cost burden estimate includes start up costs, the total cost of capital equipment annualized over its expected useful life, operation and maintenance, and purchase of services.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 14, 2001.
Jewell F. Morris,
Acting Director, National Exposure Research Laboratory.

[FR Doc. 01-15881 Filed 6-22-01; 8:45 am]

BILLING CODE 6560-50-P